DEPARTMENT OF ENERGY

Energy Information Administration

American Statistical Association Committee on Energy Statistics

AGENCY: Department of Energy.

ACTION: Notice of open meeting.

SUMMARY: This notice announces a meeting of the American Statistical Association Committee on Energy Statistics, a utilized Federal Advisory Committee. The Federal Advisory Committee Act (Pub. L. 92-463, 86 Stat. 770) requires that public notice of these meetings be announced in the Federal Register.

DATE AND TIME: Thursday, April 13, 2000, 8:30am-4:30pm.

Friday, April 14, 2000, 8:30am-12:00 noon.

PLACE: U. S. Department of Energy, Forrestal Building, 1000 Independence Ave., S.W., Washington, DC 20585.

FOR FURTHER INFORMATION CONTACT: Mr. William I. Weinig, EI-70, Committee Liaison, Energy Information Administration, U.S. Department of Energy, Washington, DC 20585, Telephone: (202) 426-1101. Alternately, Mr. Weinig may be contacted by email at william.weinig@eia.doe.gov or by FAX at (202) 426-1083.

Purpose of Committee: To advise the Department of Energy, Energy Information Administration (EIA), on EIA technical statistical issues and to enable the EIA to benefit from the Committee's experience concerning other energy-related statistical matters.

Tentative Agenda

Thursday, April 13, 2000

A. Opening Remarks by the Chair, Room 8E-089

B. Major Topics

1. Panel Discussion on Confidentiality Legislation, Room 8E-089

2. System for Analysis of Global Energy (SAGE) Markets, 8E-089

3. Cognitive Interviews on EIA's Web Site, Room 8E-089

4. Electricity Forecasting Beyond New England, GH-019

5. Progress on Auditing Software, GH-027

6. Methodological Issues in the Energy Consumption Surveys, GH-035

7. Redesign of Electricity Data Collections: 2002, 8E-089

Friday, April 14, 2000

C. Major Topics

1. EIA Responses to Market Changes in Natural Gas, Room 8E-089

2. Announce the Winners of the 7th Annual EIA Graphics Contest, Room 8E-089

3. Measuring Uncertainty in Energy CO2 Emissions: Evaluating a Monte Carlo Approach, Room 8E-089

4. Panel Discussion on Challenges in Measuring Data Quality, 8E-089

D. Closing Remarks by the Chair, 8E-089

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above.

Minutes: Available for public review and copying at the Public Reading Room, (Room 1E-190), 1000 Independence Avenue, SW, Washington, DC 20585, (202) 586-3142, between the hours of 9:00 a.m. and 4:00 p.m., Monday through Friday.

Issued at Washington, DC on March 23, 2000.
Rachel M. Samuel,
Deputy Advisory CommitteManagement Officer.

[FR Doc. 00-7578 Filed 3-27-00; 8:45 am]

BILLING CODE 6450-01-P